DEPARTMENT OF THE INTERIOR

Fish and Wildlife Service

[FWS-HQ-MB-2023-N017; FXMB12310900WH0-234-FF09M26000; OMB Control Number 1018-0023]

Agency Information Collection Activities; Submission to the Office of Management and Budget for Review and Approval; Migratory Bird Surveys

AGENCY: Fish and Wildlife Service, Interior.

ACTION: Notice of information collection; request for comment.

SUMMARY: In accordance with the Paperwork Reduction Act of 1995, we, the U.S. Fish and Wildlife Service (Service), are proposing to renew an information collection without change.

DATES: Interested persons are invited to submit comments on or before April 10, 2023.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0023” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations in the Code of Federal Regulations (CFR) at 5 CFR 1320, all information collections require approval under the PRA. We may not conduct or sponsor and you are not required to respond to a collection of information unless it displays a currently valid OMB control number.

On June 22, 2022, we published in the Federal Register (87 FR 37353) a notice of our intent to request that OMB approve this information collection. In that notice, we solicited comments for 60 days, ending on August 22, 2022. In an effort to increase public awareness of, and participation in, our public commenting processes associated with information collection requests, the Service also published the Federal Register notice on Regulations.gov (Docket FWS-HQ-MB-2022-0077) to provide the public with an additional method to submit comments (in addition to the typical Info_Coll@fws.gov email and U.S. mail submission methods). We received the following comments in response to that notice:

Comment 1: From Wyoming Game and Fish Department (Angi Bruce, Deputy Director), received 8/9/2022 by email:

The Wyoming Game and Fish Department (Department) provided the following comment in response to our first question in the Federal Register notice (“Whether or not the collection of information is necessary for the proper performance of the functions of the agency, including whether or not the information will have practical utility”):

The data provided from these surveys is utilized by Department biologists and is crucial for the management of migratory game bird populations in the State of Wyoming and across State boundaries. Without this data, it would be difficult for our biologists to set harvest limits and determine proper season dates.

(2) The Department provided the following comment in response to question 2 in the Federal Register notice (“The accuracy of our estimate of the burden for this collection of information, including the validity of the methodology and assumptions used”):

The Department has not conducted an in-depth review of the methodology and assumptions used to determine the “burden” associated with these surveys. However, given that this data has been used historically to successfully manage migratory game birds across State boundaries, the Department appreciates the USFWS efforts and recommends continuing these data collection efforts.

(3) The Department provided the following comment in response to question 3 in the Federal Register notice (“Ways to enhance the quality, utility, and clarity of the information to be collected”):

The Department appreciates the USFWS's past efforts to modernize the surveys through consultation with various partners and utilizing new technologies. The Department encourages the USFWS to continue utilizing emerging technologies to further enhance the quality, utility, and clarity of the surveys. The Department supports the USFWS efforts to compare old and new data collection methodologies to ensure data integrity and comparability of data sets.

(4) The Department provided the following comment in response to question 4 in the Federal Register notice (“How might the agency minimize the burden of the collection of information on those who are to respond, including through the use of appropriate automated, electronic, mechanical, or other technological collection techniques or other forms of information technology, e.g., permitting electronic submission of response”):

As previously mentioned, the Department appreciates the USFWS's efforts to modernize data collection procedures and utilize emerging technologies. The Department recommends that the USFWS continue to utilize automated electronic messaging approaches to send surveys to hunters and also remind them to submit this vital data. The Department also recommends that the USFWS provide technical assistance to respondents as necessary to accommodate for some users' lack of access to, or difficulty using, new technology.

Agency Response to Comment 1, from the Wyoming Game and Fish Department: We have utilized, and are continuing to explore, new technologies to increase efficiencies, reduce costs, and improve data quality in both the online harvest survey and Parts Collection Survey. For example, we are conducting a pilot project to evaluate the efficacy of bird photos submitted by hunters to supplement the Parts Collection Survey, and will be developing a prototype mobile phone app for taking and submitting photos. We have collaborated with State partners and the Association of Fish and Wildlife Agencies to promote the Harvest Information Program with targeted outreach efforts and materials. We have expanded communication options for hunters to contact us for technical support, including an additional email address and contact form that are monitored by technical support providers, and we have developed a clerical interface with the online survey database so that clerks can access information to assist hunters with technical support. Also, we have collected data from a side-by-side 3-year comparison of both the online and paper surveys and are analyzing those data to evaluate any possible differences in harvest estimates arising from use of the two platforms. This information will be provided to States and other partners when completed, to allow a better understanding of the effects of changing data collection platforms on the time series of migratory bird harvest provided by the Migratory Bird Harvest Survey.

Comment 2: From Andrew Reamer, submitted 6/22/22 by email:

On behalf of the American Economic Association and the Industry Studies Association, I write to request a copy of the draft ICR for the Migratory Bird Information Program and Migratory Bird Surveys—1018-0023, as invited by today's Federal Register. Thank you and we look forward to seeing the materials when they are available. Please feel free to upload them to https://www.regulations.gov/docket/FWS-HQ-MB-2022-0077.

Agency Response to Comment 2: We provided a draft ICR as requested.

Comment 3: Email comment from Jean Publieeer, submitted on 06/22/2022—The commenter did not address the information collection requirements.

Agency Response to Comment 3: No response required.

Comment 4: Anonymous comment, submitted on 08/15/2022—The commenter did not address the information collection requirements.

Agency Response to Comment 4: No response required.

Comment 5: From Atlantic Flyway Council (Gray Anderson), submitted 8/21/22 by email:

The Atlantic Flyway Council (AFC) provided the following comment in response to our question 1 in the Federal Register notice (“Whether or not the collection of information is necessary for the proper performance of the functions of the agency, including whether or not the information will have practical utility”):

The data obtained from these surveys are crucial for the proper management of migratory game bird populations, and for the provision of hunting opportunity. The Flyway Councils and USFWS maintain a longstanding cooperative partnership to set (and when necessary, adjust) hunting regulations based on the best available scientific information. Without the data on hunter activity and harvest obtained from these surveys, management decisions would be more likely to result in migratory bird populations being higher or lower than desired, and/or could unnecessarily restrict recreational opportunities. Further, the long time series and statistical reliability of the harvest surveys data places migratory game bird hunting on a solid footing against any legal challenges. For these reasons, the AFC firmly believes that continuing to collect the data provided by these surveys is necessary and provides practical utility not only for the USFWS, but also for the AFC's member agencies.

AFC provided the following comment in response to our question 2 in the Federal Register notice (“The accuracy of our estimate of the burden for this collection of information, including the validity of the methodology and assumptions used”):

The methodology and assumptions used to estimate the time burden for this collection of information are not clear to the AFC. However, from our involvement in various aspects of the surveys, the estimates appear reasonably accurate. We do not believe the surveys place a significant burden on respondents, and in any case the benefits provided to wildlife managers and resource users from having this information make it well worth the investment of time and effort needed to collect it.

AFC provided the following comment in response to our question 3 in the Federal Register notice (“Ways to enhance the quality, utility, and clarity of the information to be collected”):

The AFC is pleased to note that, in keeping with its comments provided in 2017 on a previous iteration of this information collection request, the USFWS has made significant strides in improving and modernizing its migratory bird harvest surveys over the past 5 years. The transition to an online survey platform appears to be progressing well and has improved data quality and reduced costs, without increasing the burden for respondents. The USFWS has also performed and partnered in various biological, social science, and statistical work to ensure that sample frames and survey question structure are maximizing survey efficiency and data quality, and that wings and tails in the Parts Collection Survey are appropriately classified. We encourage the USFWS to proceed with the side-by-side comparison of old and new survey methodology described in the Federal Register notice and we reiterate our commitment to assist the USFWS with identifying and implementing further improvements that will enable the harvest surveys to keep pace with and take advantage of technological advances.

It should also be noted that an important element in data quality and cost control is ensuring the sample frames include all relevant migratory game bird hunters—but only migratory game bird hunters—and that surveyed hunters understand the vital importance of their participation. In this regard, the Association of Fish and Wildlife Agencies' Harvest Information Program Communication Plan is a valuable resource and we encourage the USFWS to incorporate appropriate elements of that plan in its communications with the hunting public.

AFC provided the following comment in response to our question 4 in the Federal Register notice (“How might the agency minimize the burden of the collection of information on those who are to respond, including through the use of appropriate automated, electronic, mechanical, or other technological collection techniques or other forms of information technology, e.g., permitting electronic submission of response”):

As noted above, the USFWS has made good use of appropriate technologies in recent years to enhance data quality, reduce costs, and minimize burden on respondents. As information technology continues to rapidly advance, currently unforeseen methodologies are likely to arise and the entire migratory game bird management community should remain attuned to these opportunities.

Finally, it is important to highlight the AFC's increasing concern regarding inadequate Federal agency funding for many aspects of migratory bird management, including the harvest surveys program. It is our understanding that one of the reminders for participants to complete the Migratory Bird Hunter Survey has already been cut due to budget constraints, and that additional cuts to sample frames may need to be considered. These changes negatively affect the accuracy and precision of harvest estimates, and further erosion of data quality could increase the risk of negative conservation outcomes. Consequently, along with requesting that the continuation of these surveys be approved from an administrative standpoint, we urge that the necessary financial resources be provided for ongoing implementation.

The AFC greatly values our partnership with the USFWS in monitoring and managing the migratory bird resources so important to our constituents. We appreciate the opportunity to provide comments on this specific aspect of that partnership and we look forward to working with the USFWS to continue to collect and apply harvest surveys data, and to implement further survey improvements if and when necessary.

Agency Response to Comment 5, from AFC: We have collected data from a side-by-side 3-year comparison of both the online and paper surveys and are analyzing those data to evaluate any possible differences in harvest estimates arising from use of the two platforms. This information will be provided to States and other partners when completed, to allow a better understanding of the effects of changing data collection platforms on the time series of migratory bird harvest provided by the Migratory Bird Harvest Survey. We are working with the Association of Fish and Wildlife Agencies to adopt the Harvest Information Program Communications Plan, and are developing data visualizations and hunter-focused web pages to help hunters and the public understand how we collect harvest data and how we use it in science based harvest and population management.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (16 U.S.C. 703-711) and the Fish and Wildlife Act of 1956 (16 U.S.C. 742d) designate the Department of the Interior as the key agency responsible for (1) the wise management of migratory bird populations frequenting the United States, and (2) the setting of hunting regulations that allow appropriate harvests that are within the guidelines that will allow for those populations' well-being. These responsibilities dictate that we gather accurate data on various characteristics of migratory bird harvest. Based on information from harvest surveys, we can adjust hunting regulations as needed to optimize harvests at levels that provide a maximum of hunting recreation while keeping populations at desired levels.

Under 50 CFR 20.20, migratory bird hunters must register for the Migratory Bird Harvest Information Program (HIP) in each State in which they hunt each year. State natural resource agencies must send names and addresses of all migratory bird hunters to the Branch of Monitoring and Information Management, U.S. Fish and Wildlife Service Division of Migratory Bird Management, on an annual basis.

The Migratory Bird Hunter Survey is based on the Migratory Bird Harvest Information Program. We randomly select migratory bird hunters and ask them to report their harvests. The resulting estimates of harvest per hunter are combined with the complete list of migratory bird hunters to provide estimates of the total harvest for the species surveyed.

The Parts Collection Survey estimates the species, sex, and age composition of the harvest, and the geographic and temporal distribution of the harvest. Randomly selected successful hunters who responded to the Migratory Bird Hunter Survey the previous year, as well as a sample of hunters who were not surveyed the previous year, are asked to complete and return a letter if they are willing to participate in the Parts Collection Survey. We provide postage-paid envelopes to respondents before the hunting season and ask them to send in a wing or the tail feathers from each duck or goose that they harvest, or a wing from each mourning dove, woodcock, band-tailed pigeon, or rail that they harvest. We use the wings and tail feathers to identify the species, sex, and age of the harvested sample. We also ask respondents to report the date and location of harvest for each bird on the outside of the envelope. We combine the results of this survey with the harvest estimates obtained from the Migratory Bird Hunter Survey to provide species-specific national harvest estimates.

The combined results of these surveys enable us to evaluate the effects of season length, season dates, and bag limits on the harvest of each species, and thus help us determine appropriate hunting regulations.

The Sandhill Crane Harvest Survey is an annual questionnaire survey of people who obtained a sandhill crane hunting permit. At the end of the hunting season, we randomly select a sample of permit holders and ask them to report the date, location, and number of birds harvested for each of their sandhill crane hunts. Their responses provide estimates of the temporal and geographic distribution of the harvest as well as the average harvest per hunter, which, combined with the total number of permits issued, enables us to estimate the total harvest of sandhill cranes. Based on information from this survey, we adjust hunting regulations as needed.

In fall of 2019, we implemented a new, online platform for the Migratory Bird Hunter Survey. The platform is optimized for use on multiple devices (computer, tablet, or phone, Android or Apple OS). This online survey platform walks a participant through the process of entering their harvest for a single day and asks for one piece of information at a time, which reduces confusion and the likelihood that the hunter will provide incorrect information. The online system improves data quality and prevents errors (e.g., reporting harvest of the wrong species, or in the wrong State). We will continue to conduct the full paper survey through 2022, in order to ensure that data collected through the online platform is sound, and to provide a side-by-side comparison of harvest estimates that can be used to calibrate the old survey to the new one. This is particularly important for maintaining a continuous time series of harvest estimates, despite changing methodology. Going forward, we will conduct the full survey using the online application but will provide a paper survey by mail to those hunters who request them.

Title of Collection: Migratory Bird Information Program and Migratory Bird Surveys, 50 CFR 20.20.

OMB Control Number: 1018-0023.

Form Number: FWS Forms 3-165, 3-165A through E, and 3-2056J through N.

Type of Review: Renewal without change of a currently approved collection.

Respondents/Affected Public: States and migratory game bird hunters.

Respondent's Obligation: Mandatory for HIP registration information; voluntary for participation in the surveys.

Frequency of Collection: Annually for States or on occasion for migratory bird hunters.

Total Estimated Annual Nonhour Burden Cost: None.

Collection type/form No. | Number of respondents | Average number of responses each | Number of annual responses * | Average time per response | Total annual burden hours *
Migratory Bird Harvest Information Program (State Governments)
| 49 | 18 | 882 | 129 hours | 113,778
Migratory Bird Hunter Survey (Individuals)
Form 3-2056J | 31,900 | 1 | 31,900 | 4 minutes | 2,127
Form 3-2056K | 16,900 | 1 | 16,900 | 3 minutes | 845
Form 3-2056L | 8,500 | 1 | 8,500 | 3 minutes | 425
Form 3-2056M | 10,200 | 1 | 10,200 | 2 minutes | 340
Subtotals | 67,500 |  | 67,500 |  | 3,737
Parts Collection Survey (Individuals)
Form 3-165 | 4,760 | 22 | 104,720 | 5 minutes | 8,727
Form 3-165A | 830 | 5.5 | 4,565 | 5 minutes | 380
Form 3-165B | 3,600 | 1 | 3,600 | 1 minute | 60
Form 3-165C | 320 | 1 | 320 | 1 minute | 5
Form 3-165D | 800 | 1 | 800 | 1 minute | 13
Form 3-165E | 780 | 1.5 | 1,170 | 5 minutes | 98
Subtotals | 11,090 |  | 115,175 |  | 9,283
Sandhill Crane Harvest Survey (Individuals)
Form 3-2056N | 5,900 | 1 | 5,900 | 1.5 minutes | 148
Totals | 84,539 |  | 189,457 |  | 126,946
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-04908 Filed 3-9-23; 8:45 am]

BILLING CODE 4333-15-P